Title 3—

The President

Memorandum of December 22, 2016

Supporting New American Service Members, Veterans, and Their Families

Memorandum for the Heads of Executive Departments and Agencies

My Administration has maintained a steadfast commitment to honor and serve the brave men and women who have served this country. Like all service members and veterans, foreign-born residents and naturalized citizens serving in the United States Armed Forces are shining examples of the American dream. These brave new Americans have taken the extraordinary step of answering the call to duty, to support and defend our country. Some have made the ultimate sacrifice for our country before becoming American citizens.

New American service members are undoubtedly a critical element of our national security. They risk their lives all over the world in the name of the United States, securing shipping lanes, protecting bases and embassies, providing medical assistance, and conducting humanitarian missions. Tens of thousands of lawful permanent residents and naturalized U.S. citizens currently serve in our Armed Forces. Many more are veterans who have served previously in the Armed Forces. Additionally, many U.S.-born service members have immediate family members who were born abroad.

Over the past decade, the Departments of Defense, Veterans Affairs, and Homeland Security have strengthened partnerships to provide services and opportunities to service members, veterans, and their families interacting with the U.S. immigration system. Indeed, since 2001, more than 110,000 service members have been naturalized and many were assisted in the process through partnerships such as the “Naturalization at Basic Training Initiative,” which gives non-citizen enlistees the opportunity to naturalize during basic training. Despite these efforts, service members, veterans, and their families still face barriers to accessing immigration benefits and other assistance for which they may be eligible.

In light of the sacrifices that all of these individuals make and have made for our country, it is critical that executive departments and agencies (agencies) enhance collaboration and streamline processes to ensure that they receive the services and benefits they need and have earned. Therefore, by the authority vested in me as President by the Constitution and the laws of the United States of America, and to address the issues facing new American service members, veterans, and their families, I hereby direct as follows:

Section 1. Interagency Working Group to Support New American Service Members, Veterans, and their Families. There is established a Working Group to Support New American Service Members, Veterans, and their Families (Working Group) to coordinate records, benefits, and immigration and citizenship services for these service members, veterans, and their families. The Working Group shall convene its first meeting within 10 days of the date of this memorandum.

(a) The Working Group shall consist of representatives from:

(i) the Department of State;

(ii) the Department of Defense;

(iii) the Department of Justice;

(iv) the Department of Labor;

(v) the Department of Veterans Affairs; and

(vi) the Department of Homeland Security.

(b) The Working Group shall consult with additional agencies or offices, as appropriate.

Sec. 2. Mission and Functions of the Working Group. (a) The Working Group shall coordinate agency efforts to support service members, veterans, and their families who are navigating the immigration, veterans, and military systems. Such efforts shall include:

(i) coordinating the sharing of military records and other information relevant to immigration or veterans benefits;

(ii) enhancing awareness of naturalization and immigration benefits to provide timely assistance and information to service members, veterans, and their families;

(iii) coordinating and facilitating the process of adjudicating immigration applications and petitions; and

(iv) other efforts that further support service members, veterans, and their families.

(b) Within 30 days of the date of this memorandum, the Working Group shall develop an initial 3-year strategic action plan that details broad approaches to be taken to enhance access to services and benefits. This initial plan shall be supplemented by a more detailed plan, to be published within 120 days of the date of this memorandum that discusses the steps to be taken in greater detail. The Working Group shall also report periodically on its accomplishments and ongoing initiatives.

Sec. 3. Outreach. Consistent with the objectives of this memorandum and applicable law, the Working Group shall seek the views of representatives of private and nonprofit organizations; veterans and military service organizations; State, tribal, and local government agencies; elected officials; and other interested persons to inform the Working Group's plans.

Sec. 4. General Provisions. (a) The heads of agencies shall assist and provide information to the Working Group, consistent with applicable law, as may be necessary to carry out the functions of the Working Group. Each agency and office shall bear its own expense for carrying out activities related to the Working Group.

(b) Nothing in this memorandum shall be construed to impair or otherwise affect the authority granted by law to an executive department or an agency, or the head thereof, or the status of that department or agency within the Federal Government.

(c) This memorandum shall be implemented consistent with applicable law and subject to the availability of appropriations.

(d) This memorandum is not intended to, and does not, create any right or benefit, substantive or procedural, enforceable at law or in equity by any party against the United States, its departments, agencies, or entities, its officers, employees, or agents, or any other person.

(e) The Secretary of Homeland Security is hereby authorized and directed to publish this memorandum in the Federal Register.

THE WHITE HOUSE,

Washington, December 22, 2016.

[FR Doc. 2016-31690

Filed 12-27-16; 11:15 am]

Billing code 4410-10-P